SOCIAL SECURITY ADMINISTRATION

[Docket No. SSA 2010-0082]

Privacy Act of 1974, as Amended; Computer Matching Program (SSA Internal Match)—Match Number 1014

AGENCY: Social Security Administration (SSA)

ACTION: Notice of a new computer matching program.

SUMMARY: In accordance with the provisions of the Privacy Act, as amended, this notice announces a new computer matching program that we are conducting with ourselves.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 966-0869 or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel as shown above.

SUPPLEMENTARY INFORMATION:

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dawn S. Wiggins,
Acting Executive Director, Office of Privacy and Disclosure, Office of the General Counsel.

Notice of Computer Matching Program, SSA Internal Match

A. Participating Agency

SSA.

B. Purpose of the Matching Program

The purpose of this matching program is to establish the terms, conditions, and safeguards under which we will compare our current employee records of the Federal Personnel/Payroll System with the Disability Income (DI) and Supplemental Security Income (SSI) beneficiaries/recipients through a periodic computerized comparison of records. We will use this information to verify self-certification statements of income in order to verify continuing eligibility and benefit amounts of beneficiaries.

C. Authority for Conducting the Matching Program

The legal authority for this agreement is as follows:

1. Section 1631(f) of the Social Security Act (Act) (42 U.S.C. 1383(f)) provides that “[t]he head of any Federal agency shall provide such information as the Commissioner of Social Security needs for the purposes of determining eligibility for or amount of benefits or verifying information with respect thereto.”

2. Section 1631(e)(1)(B) of the Act (42 U.S.C. 1383(e)) provides that Social Security is required to verify eligibility of a recipient or applicant for SSI using independent or collateral sources.

3. Section 224(h) of the Act (42 U.S.C. 424a(h)) provides that Social Security is entitled to review information to determine the amount of DI benefits and to verify information with respect thereto.

4. This agreement is subject to the provisions of the Privacy Act of 1974, 5 U.S.C. 552a, as amended, and the provisions of the Computer Matching and Privacy Protection Act of 1988. The Privacy Act provides that no record contained in a system of records may be disclosed to a recipient agency or non-federal agency for use in a computer matching program except pursuant to a written agreement containing specific provisions. 5 U.S.C. 552a(o). The comparison of records that is the subject of this agreement constitutes a matching program within the meaning of the Privacy Act, 5 U.S.C. 552a(a)(8)(A).

D. Categories of Records and Persons Covered by the Matching Program

We will compare identifying information from The Payroll, Leave and Attendance Records (60-0238) last published on January 11, 2006, at 71 FR 1856 with identifying information from The Master Files of Social Security Number (SSN) Holders and SSN Applications (60-0058) last published on December 29, 2010, at 74 FR 62866; The Master Beneficiary Record (60-0090) last published on January 11, 2006, at 71 FR 1826; and The Supplemental Security Income Record and Special Veterans Benefits (60-0103) last published on January 11, 2006, at 71 FR 1830.

E. Inclusive Dates of the Matching Program

The effective date of this matching program is March 10, 2011 provided that the following notice periods have lapsed: 30 days after publication of this notice in the Federal Register and 40 days after notice of the matching program is sent to Congress and OMB. The matching program will continue for 18 months from the effective date and may be extended for an additional 12 months thereafter, if certain conditions are met.

[FR Doc. 2011-1810 Filed 1-27-11; 8:45 am]

BILLING CODE 4191-02-P